FEDERAL COMMUNICATIONS COMMISSION

[OMB 3060-XXXX; FR ID 179305]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before December 22, 2023. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-XXXX.

Title: Request for Religious Accommodation.

Form Number: FCC Form-5652.

Type of Review: New Collection.

Respondents: Individuals or households; Federal Government.

Number of Respondents and Responses: 3 respondents; 3 responses.

Estimated Time per Response: 2.5 hours.

Frequency of Response: One-time reporting requirement.

Obligation to Respond: Voluntary. Statutory authority for this information collection is contained Title VII of the Civil Rights Act of 1964, as amended, 29 U.S.C. part 1605; U.S. Equal Employment Opportunity Commission's Compliance Manual, Section 12: Religious Discrimination (January 15, 2021); U.S. Equal Employment Opportunity Commission's Questions and Answers: Religious Discrimination in the Workplace (July 22, 2008); U.S. Office of Personnel Management's Fact Sheet: Adjustment of Work Schedules for Religious Observances.

Total Annual Burden: 8 Hours.

Total Annual Cost: $600.

Needs and Uses: In order to file a religious accommodation request, requesters must provide certain information to allow the FCC's Office of Workplace Diversity to determine that the employee or applicant satisfies the requirements of the Title VII of the Civil Rights Act of 1964 for filing a request. The information requested in the Religious Accommodation Form assists requesters to provide information to ascertain if the requesters sincerely held religious beliefs, observances or practices conflict with a specific task or requirement of the position or an application process. Specifically, the FCC Form 5652, the Religious Accommodation Request Form provides information regarding the type of accommodation or modification requested, the requesters sincerely held belief, and which FCC requirement, policy, or practice that conflicts with the requesters sincerely held religious observance, practice, or belief.

Federal Communications Commission.
Marlene Dortch,
Secretary, Office of the Secretary.

[FR Doc. 2023-23306 Filed 10-20-23; 8:45 am]

BILLING CODE 6712-01-P